DEPARTMENT OF TRANSPORTATION

Federal Railroad Administration

[Docket Number FRA-2016-0087]

Petition for Waiver of Compliance

In accordance with part 211 of Title 49 of Code of Federal Regulations (CFR), this provides the public notice that by a document dated August 16, 2016, the Appanoose County Community Railroad (APNC) has petitioned the Federal Railroad Administration (FRA) for a waiver of compliance from certain provisions of the Federal railroad safety regulations contained at 49 CFR 223.11. FRA assigned the petition Docket Number FRA-2016-0087.

APNC has petitioned FRA to grant a waiver of compliance from 49 CFR part 223, Safety Glazing Standards—Locomotives, Passenger Cars and Cabooses, for two locomotives, respectively numbered APNC 973 and APNC 116. APNC is a shortline railroad that operates over approximately 34.5 miles of track, and the majority of its operations are through rural or lightly populated areas. Locomotive number APNC 973 is a GP-7 type locomotive and was built in 1953. Locomotive number APNC 116 is a GP-7M type locomotive and was built in 1953. APNC's petition states that existing glazing on both locomotives is in good condition. The petition further states that APNC has no history of glazing related accidents or injuries and is, therefore, requesting a waiver of the safety glazing requirements.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 5, 2017 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also https://www.regulations.gov/privacyNotice for the privacy notice of regulations.gov.

Robert C. Lauby,
Associate Administrator for Railroad Safety, Chief Safety Officer.

[FR Doc. 2016-27953 Filed 11-18-16; 8:45 am]

BILLING CODE 4910-06-P